DEPARTMENT OF TRANSPORTATION

Federal Aviation Administration

14 CFR Part 71

[Docket No. FAA-2019-0038; Airspace Docket No. 19-ACE-3]

RIN 2120-AA66

Amendment of Class E Airspace; Sibley, IA

AGENCY: Federal Aviation Administration (FAA), DOT.

ACTION: Final rule, correction.

SUMMARY: This action corrects a final rule published in the Federal Register of May 17, 2019, that modifies Class E airspace at Sibley Municipal Airport, Sibley, IA. The geographic coordinates of the airport will be amended to be in concert with the FAA's aeronautical database.

DATES: Effective date 0901 UTC, August 15, 2019. The Director of the Federal Register approves this incorporation by reference action under Title 1 Code of Federal Regulations part 51, subject to the annual revision of FAA Order 7400.11 and publication of conforming amendments.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register for Docket No. FAA-2019-0038 (84 FR 22366, May 17, 2019), amending Class E airspace at the Sibley Municipal Airport, Sibley, IA. Subsequent to publication, the FAA identified an error that the geographic coordinates of the airport need to be amended to be in concert with the FAA's aeronautical database. This correction changes the coordinates from “(long. 094°45′35″ W)” to read “(long. 095°45′35″ W)”

Correction to Final Rule

Accordingly, pursuant to the authority delegated to me, in the Federal Register of May 17, 2019 (84 FR 22366) FR Doc. 2019-0038, Amendment of Class E Airspace; Sibley, IA, is corrected as follows:

§ 71.1 [Amended]

ACE IA E5 Sibley, IA [Corrected]

On page 22367, column 2, line 17; remove “(long 094°45′35″ W)” and add in its place “(long 095°45′35″ W)”.

Issued in Fort Worth, Texas, on June 19, 2019.
John Witucki,
Acting Manager, Operations Support Group, Central Service Center.

[FR Doc. 2019-13642 Filed 6-26-19; 8:45 am]

BILLING CODE 4910-13-P